DEPARTMENT OF COMMERCE

International Trade Administration

U.S. Institutional Investor Roadshow

AGENCY: International Trade Administration, U.S. Department of Commerce.

ACTION: Notice of an opportunity to participate in the U.S. Institutional Investor Roadshow.

SUMMARY: The Department of Commerce, International Trade Administration, Global Markets, Office of Africa is seeking representatives of 15 U.S. institutional investors to participate in the launch of the U.S. Institutional Investor Roadshow. The Roadshow will provide a platform for U.S. institutional investors and African government representatives to discuss and implement best practices for reducing governance risk, strengthening capital markets and increasing long-term investment flows. The program is designed to help U.S. financial institutions and exporters participate in large-scale business opportunities arising from transformational infrastructure projects in Africa. Representatives of several African governments, including one or more heads of state, are expected to participate in the launch event. U.S. institutional investors and U.S. investment fund managers that represent U.S. institutional investors are invited to express interest in participating in the launch event and on-going roadshow.

DATES: The launch event will be held on Tuesday, September 29, 2015. Space is limited. Requests to participate in the launch event must be received by 5:00 p.m. EDT on September 18th, 2015. The U.S. Institutional Investor Roadshow is an on-going program. Requests will be accepted on an on-going basis for the duration of the program to be added to the distribution list for information about the program and about upcoming events.

ADDRESSES: The launch event will be held in New York, New York. The address will be provided to invited participants. Future Roadshow events are expected to occur in the United States and Africa. To express interest in participating in the launch event or to be added to the Roadshow distribution list for information about the program and about upcoming events, please submit your request to: Roadshow@trade.gov.

FOR FURTHER INFORMATION CONTACT: Joe Wereszynski, the United States Department of Commerce, 1401 Constitution Ave. NW., Washington, DC 20230, telephone: 202-482-4729, email: Joseph.Wereszynski@trade.gov.

SUPPLEMENTARY INFORMATION:

Background: On September 29, 2015, the U.S. Department of Commerce, in partnership with McKinsey & Company, will hold a one day event in New York, New York to launch an U.S. Institutional Investor Roadshow for Africa. The Roadshow is a U.S. Department of Commerce program that will provide a platform for leading U.S. institutional investors, such as state pension and teacher retirement funds, and African government officials to discuss and implement best practices for reducing governance risk, strengthening capital markets and increasing long-term investment flows. At the same time, the program will help U.S. financial institutions and exporters to learn about and how to pursue opportunities to participate in large-scale business opportunities arising from transformational infrastructure projects in Africa. The goal of the Roadshow is to bring a new level of transparent and flexible private sector funding while providing private sector tools to improve the investment climate to allow more U.S. companies to close business deals.

The Roadshow is an initiative developed by the U.S. Department of Commerce in response to the need expressed by African leaders and the U.S. private sector for increased access to long-term private capital to fund large scale infrastructure projects in Africa. It is a direct follow-up to the 2014 U.S.-Africa Business Forum and an official recommendation made by the President's Advisory Council on Doing Business in Africa. For more information on the Roadshow concept, please see the official recommendations made by the President's Advisory Council on Doing Business in Africa: http://www.trade.gov/pac-dbia/docs/PAC-DBIA-Report_Final.pdf. The inaugural launch in New York, New York will be the first event in a series of high-level engagements that are expected to be scheduled to take place across the continent of Africa. The Global Market's Office of Europe, Middle East and Africa has entered into a joint project with McKinsey and Company to organize and hold the launch event. The launch event will comprise of approximately 20-25 individuals consisting of U.S. Government officials, government officials from African countries (expected to include at least some government Ministers and one or more heads of state), and representatives of U.S. institutional investors. The program will include keynote speeches, panels, and other presentations by attendees from both government and business. The program will include an overview of the financial business climate, a discussion of some of the leading proposed African infrastructure projects, and roundtable discussions on reactions to the proposed projects (including how to structure projects to attract foreign investment and factors that the U.S. private sector looks for and considers when assessing whether to invest).

Public Participation: U.S. institutional investors or U.S. investment fund managers that represent U.S. institutional investors (state pension and teacher retirement funds), are eligible to apply for participation. Please note that space is limited at the launch event and applying does not guarantee participation. All applicants will be evaluated based on their ability to meet certain conditions and best satisfy the selection criteria as outlined below. Due to space limitations, participation is limited to no more than two representatives of each participating U.S. institutional investor or U.S. investment fund managers that represent U.S. institutional investors. If you are interested in being considered as a participant for the September 29, 2015 launch event, you must apply by sending an email to the address below by September 18th, 2015. The email must include the name of the proposed participant(s), title(s), company name, business contact information, a brief bio of the proposed participant(s), and a description of the company's interest in the event (including any relevant past, on-going, or planned investments or intent to invest in infrastructure and/or in Africa). Investment fund managers also must certify that they represent U.S. institutional investors. Do not include any business confidential or proprietary information in the request. Requests to participate in the launch event will be evaluated by the Department of Commerce and McKinsey and Company based on (1) level of institutional interest, knowledge of, or experience investing in infrastructure projects and/or in Africa, (2) experience and ability of the proposed participant to engage in a substantive discussion of factors influencing U.S. institutional investment decisions in the infrastructure sector in African markets, and (3) level of proposed participant within the company to be represented. Decisions will be made without regard to political considerations; referrals from political organizations and any documents containing references to partisan political activities (including political contributions) will be removed from an applicant's submission and not considered during the selection process.

To apply send an email to: Roadshow@trade.gov.

If you are interested in being added to the distribution list for information about this program and about upcoming events, send an email to Roadshow@trade.gov with your name and contact information.

Dated: August 31, 2015.
Joe Wereszynski,
Senior Policy Advisor for Europe, Middle East and Africa, Office of the Deputy Assistant Secretary, U.S. Department of Commerce.

[FR Doc. 2015-21973 Filed 9-2-15; 8:45 am]

BILLING CODE 3510-DR-P